DEPARTMENT OF AGRICULTURE

Rural Utilities Service

[Docket #RUS-22-Electric-0060]

Inflation Reduction Act Discussion Sessions

AGENCY: Rural Utilities Service, USDA

ACTION: Notice of roundtable discussion sessions.

SUMMARY: The Inflation Reduction Act (IRA) of 2022 created several new clean energy provisions to be administered by the Rural Utilities Service (RUS), an agency of the Rural Development (RD) mission area of the United States Department of Agriculture (USDA). Following formal listening sessions, Tribal consultation, and a written comment period in November and December of 2022 regarding these IRA RUS clean energy provisions, RUS will host a series of virtual roundtables in January of 2023 to gain additional individual input from stakeholders regarding the design of IRA sections 22001 and 22004, with the intention of releasing a funding opportunity announcement in the first half of 2023.

DATES: Thirteen virtual roundtable discussions are planned for the following dates and times. In an effort to create a smaller setting for individual representatives to share their input, roundtables are organized by stakeholder groups, although all discussions will be open to any member of the public who expresses interest in joining, with the goal of being inclusive and hearing from all stakeholders wishing to provide further input. Registration links for the sessions below are available at: https://www.rd.usda.gov/inflation-reduction-act.

January 17—10 a.m. Eastern Time (ET)—USDA Rural Development, RUS IRA Roundtable aimed at Electrical Generation & Transmission (G&T) entities RUS Region 1 which includes entities in the following states: AL, CT, DE, FL, GA, KY, ME, MD, MA, NH, NJ, NY, NC, OH, PA, RI, SC, TN, VT, VA, WV

January 17—4 p.m. ET—USDA Rural Development, RUS IRA Roundtable aimed at Rural Mayors and Other Sub-national Leaders

January 18—10 a.m. ET—USDA Rural Development, RUS IRA Roundtable aimed at Labor Stakeholders

January 18—3 p.m. ET—USDA Rural Development, RUS IRA Roundtable aimed at Environmental Stakeholders

January 19—3 p.m. ET—USDA Rural Development, RUS IRA Roundtable aimed at Clean Energy Developers

January 20—11 a.m. ET—USDA Rural Development, RUS IRA Roundtable aimed at Distribution Cooperatives in RUS Region 1 which includes entities in the following states: AL, CT, DE, FL, GA, KY, ME, MD, MA, NH, NJ, NY, NC, OH, PA, RI, SC, TN, VT, VA, WV

January 20—3:30 p.m. ET—USDA Rural Development, RUS IRA Roundtable aimed at Electrical G&T entities in RUS Region 2 which includes entities in the following states: AK, AR, HI, IL, IN, IA, KS, LA, MI, MS, MO, NE, OK, TX

January 23—11 a.m. ET—USDA Rural Development, RUS IRA Roundtable aimed at Engineering Firms with Expertise in Rural Energy and Rural Energy Systems

January 23—3 p.m. ET—USDA Rural Development, RUS IRA Roundtable aimed at Electrical G&T entities in RUS Region 3 which includes entities in the following states: AZ, CA, CO, ID, MN, MT, NV, NM, ND, OR, SD, UT, WA, WI, WY and all Territories

January 24—11 a.m. ET—USDA Rural Development, RUS IRA Roundtable aimed at Distribution Cooperatives in RUS Region 2 which includes entities in the following states: AK, AR, HI, IL, IN, IA, KS, LA, MI, MS, MO, NE, OK, TX

January 24—3 p.m. ET—USDA Rural Development, RUS IRA Roundtable aimed at promoting renewable energy development in tribal communities through Tribes, Tribal Utilities and Tribal Organizations and Entities

January 25—1 p.m. ET—USDA Rural Development, RUS IRA Roundtable aimed at Equity Stakeholders

January 26—4 p.m. ET—USDA Rural Development, RUS IRA Roundtable aimed at Distribution Cooperatives in RUS Region 3 which includes entities in the following states: AZ, CA, CO, ID, MN, MT, NV, NM, ND, OR, SD, UT, WA, WI, WY and all Territories

ADDRESSES: If you have an interest in attending any roundtable discussion session, please register at https://www.rd.usda.gov/inflation-reduction-act. Given limited capacity and the goal of creating smaller settings to hear from as diverse and broad a set of stakeholders as possible, we encourage stakeholders to only register for the session most focused on their interest. Additional information about RD and its programs is available on the internet at https://www.rd.usda.gov.

FOR FURTHER INFORMATION CONTACT: Louise Torrez at Louise.Torres@usda.gov. Persons with disabilities who require alternative means for communication (Braille, large print, audio tape, etc.) should contact the USDA Target Center at (202) 720-2600 (voice and TDD).

SUPPLEMENTARY INFORMATION:

Background

Rural Development is an advocate for rural America, administering a multitude of programs, ranging from housing and community facilities to infrastructure and business development. The Agency's mission is to increase economic opportunity and improve the quality of life in rural communities by providing the leadership, infrastructure, capital, and technical support that enables rural communities to prosper. To achieve its mission, the Agency provides financial support, including loan guarantees, direct loans and grants, and technical assistance to enhance the quality of life and provide the foundation for economic development in rural areas.

The RUS received significant funding through the IRA of 2022, Public Law 117-169. This funding is a historic opportunity to provide financial assistance for renewable and zero-emission projects and energy systems, including energy storage and enabling infrastructure, that will support the long-term resilience, reliability, and affordability of rural electric systems and achieve greenhouse gas emission reductions.

Section 22001 of the IRA provides $1 billion in budget authority for loans for solar, hydro, wind, geothermal and biomass projects, as required by Section 317 of the Rural Electrification Act (7 U.S.C. 940g), and for energy storage associated with renewable energy projects. Up to 50 percent of such loans will be forgiven if the loan terms and conditions are satisfied; however, the Secretary shall also establish criteria to go beyond the 50 percent limitation.

Section 22004 of the IRA provides $9.7 billion in budget authority for loans, grants, loan modifications and other financial assistance to support the purchase of renewable energy, renewable energy systems, zero-emissions, and carbon capture systems and to deploy such systems or to make energy efficiency improvements to generation and transmission systems of eligible entities to achieve the greatest reduction in carbon dioxide, methane, and nitrous oxide emissions associated with rural electric systems. An eligible entity is defined as an electric cooperative described in section 501(c)(12) or 1381(a)(2) of the Internal Revenue Code of 1986 and is or has been a Rural Utilities Service electric loan borrower pursuant to the Rural Electrification Act of 1936 or serving a predominantly rural area or a wholly or jointly owned subsidiary of such electric cooperative.

RUS aims to release a Funding Opportunity Announcement for both sections 22001 and 22004 in the first half of 2023. The RUS is developing processes and tools that will be used to deliver this important funding to rural areas and stakeholder feedback is vital in developing financial assistance products that will be integral to ensuring this funding reaches the intended customers.

Roundtable Discussion Sessions

The RUS will hold the roundtable discussions on the dates listed in DATES section of this notice to provide an additional opportunity for the public, particularly those who may not have participated in or commented through previously announced opportunities, about their needs and interests regarding sections 22001 and 22004 of the IRA. RUS will use the Zoom platform to host and record the virtual roundtable discussions. Each roundtable session will begin with brief opening remarks from RUS leadership. Participants will be able to provide input verbally or through the chat feature in Zoom. Individual speakers providing input will be asked for succinct remarks. Due to time and attendance constraints, the agency reserves the right to announce a time limitation at the beginning of each session.

The discussions will vary and be driven in large part by participants, but will focus on IRA sections 22001 and 22004 and input regarding, but not limited to, topics such as community needs, concerns, and opportunities regarding renewable energy development; specific financing and market needs to make renewable energy and zero emission projects and energy systems viable, affordable and reliable for rural communities; equity concerns and specific thoughts on how to include and address equity considerations; and metrics and the benefits and/or limitations of existing publicly available government tools to assess the greenhouse gas emissions of renewable energy projects and energy systems.

Andrew Berke,
Administrator, Rural Utilities Service.

[FR Doc. 2023-00597 Filed 1-10-23; 4:15 pm]

BILLING CODE 3410-15-P